DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and Title 30 of the Code of Federal Regulations govern the application, processing, and disposition of petitions for modification of mandatory safety standards. Any mine operator or representative of miners may petition for an alternative method of complying with an existing safety standard. MSHA reviews the content of each submitted petition, assesses the mine in question, and ultimately issues a decision on the petition. This notice includes a list of petitions for modification that were granted after MSHA's review and investigation, between April 20, 2019 and December 14, 2020.

ADDRESSES: Copies of the final decisions are posted on MSHA's website at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Roslyn B. Fontaine, 202-693-9440 (voice), Fontaine.roslyn@dol.gov (email), or 202-693-9441 (fax). [These are not toll-free numbers.]

SUPPLEMENTARY INFORMATION:

I. Introduction

Under section 101 of the Federal Mine Safety and Health Act of 1977, any mine operator or representative of miners may petition to use an alternative approach to comply with a safety standard. In response, the Secretary of Labor (Secretary) or his or her designee may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision. In other instances, MSHA may deny, dismiss, or revoke a petition for modification. In accordance with 30 CFR 44.5, MSHA publishes every final action granting a petition for modification.

II. Granted Petitions for Modification

On the basis of the findings of MSHA's investigation, and as designee of the Secretary, MSHA has granted or partially granted the petitions for modification below. Since the previous Federal Register notice (84 FR 34950) included petitions granted through April 19, 2019, listed below are petitions granted between April 20, 2019 and December 20, 2020. The granted petitions are shown in the order that MSHA received them.

• Docket Number: M-2016-012-C.

FR Notice: 81 FR 42737 (6/30/2016).

Petitioner: ICG Illinois, LLC, 5945 Lester Road, Williamsville, Illinois 62693.

Mine: Viper Mine, MSHA I.D. No. 11-02664, located in Sangamon County, Illinois.

Regulation Affected: 30 CFR 75.500(d) (Permissible electric equipment).

• Docket Number: M-2016-013-C.

FR Notice: 81 FR 42737 (6/30/2016).

Petitioner: ICG Illinois, LLC, 5945 Lester Road, Williamsville, Illinois 62693.

Mine: Viper Mine, MSHA I.D. No. 11-02664, located in Sangamon County, Illinois.

Regulation Affected: 30 CFR 75.507-1(a) (Electric equipment other than power-connection points; outby the last open crosscut; return air; permissibility requirements).

• Docket Number: M-2016-014-C.

FR Notice: 81 FR 42737 (6/30/2016).

Petitioner: ICG Illinois, LLC, 5945 Lester Road, Williamsville, Illinois 62693.

Mine: Viper Mine, MSHA I.D. No. 11-02664, located in Sangamon County, Illinois.

Regulation Affected: 30 CFR 75.1002(a) (Installation of electric equipment and conductors; permissibility).

• Docket Number: M-2016-034-C.

FR Notice: 81 FR 81810 (11/18/2016).

Petitioner: Warrior Coal, LLC, 57 J.E. Ellis Rd., Madisonville, Kentucky 42431.

Mine: Warrior's Cardinal Mine, MSHA I.D. No. 15-14335, located in Hopkins County, Kentucky.

Regulation Affected: 30 CFR 75.500(d) (Permissible electric equipment).

• Docket Number: M-2016-035-C.

FR Notice: 81 FR 81810 (11/18/2016).

Petitioner: Warrior Coal, LLC, 57 J.E. Ellis Rd., Madisonville, Kentucky 42431.

Mine: Warrior's Cardinal Mine, MSHA I.D. No. 15-14335, located in Hopkins County, Kentucky.

Regulation Affected: 30 CFR 75.507-1(a) (Electric equipment other than power-connection points; outby the last open crosscut; return air; permissibility requirements).

• Docket Number: M-2017-004-C.

FR Notice: 82 FR 16071 (3/31/2017).

Petitioner: Tunnel Ridge, LLC, 2596 Battle Run Road, Triadelphia, West Virginia 26059.

Mine: Tunnel Ridge Mine, MSHA I.D. No. 46-08864, located in Ohio County, West Virginia.

Regulation Affected: Regulation Affected: 30 CFR 75.500(d) (Permissible electric equipment).

• Docket Number: M-2017-005-C.

FR Notice: 82 FR 16071 (3/31/2017).

Petitioner: Tunnel Ridge, LLC, 2596 Battle Run Road, Triadelphia, West Virginia 26059.

Mine: Tunnel Ridge Mine, MSHA I.D. No. 46-08864, located in Ohio County, West Virginia.

Regulation Affected: 30 CFR 75.507-1(a) (Electric equipment other than power-connection points; outby the last open crosscut; return air; permissibility requirements).

• Docket Number: M-2017-006-C.

FR Notice: 82 FR 16071 (3/31/2017).

Petitioner: Tunnel Ridge, LLC, 2596 Battle Run Road, Triadelphia, West Virginia 26059.

Mine: Tunnel Ridge Mine, MSHA I.D. No. 46-08864, located in Ohio County, West Virginia.

Regulation Affected: 30 CFR 75.1002(a) (Installation of electric equipment and conductors; permissibility).

• Docket Number: M-2017-010-C.

FR Notice: 82 FR 34701 (7/26/2017).

Petitioner: Peabody Gateway North Mining, LLC, 12968 Illinois State Route 13, Coulterville, IL 62237.

Mine: Gateway North Mine, MSHA I.D. No. 11-03235, located in Randolph County, Illinois.

Regulation Affected: 30 CFR 75.500(d) (Permissible electric equipment).

• Docket Number: M-2017-011-C.

FR Notice: 82 FR 34701 (7/26/2017).

Petitioner: Peabody Gateway North Mining, LLC, 12968 Illinois State Route 13, Coulterville, IL 62237.

Mine: Gateway North Mine, MSHA I.D. No. 11-03235, located in Randolph County, Illinois.

Regulation Affected: 30 CFR 75.507-1(a) (Electric equipment other than power-connection points; outby the last open crosscut; return air; permissibility requirements).

• Docket Number: M-2017-015-C.

FR Notice: 82 FR 37239 (8/9/2017).

Petitioner: Prairie State Generating Company, 4274 County Highway 12, Marissa, Illinois 62257.

Mine: Lively Grove Mine, MSHA I.D. No. 11-03193, located in Washington County, Illinois.

Regulation Affected: 30 CFR 75.500(d) (Permissible electric equipment).

• Docket Number: M-2017-016-C.

FR Notice: 82 FR 37239 (8/9/2017).

Petitioner: Prairie State Generating Company, 4274 County Highway 12, Marissa, Illinois 62257.

Mine: Lively Grove Mine, MSHA I.D. No. 11-03193, located in Washington County, Illinois.

Regulation Affected: 30 CFR 75.507-1(a) (Electric equipment other than power-connection points; outby the last open crosscut; return air; permissibility requirements).

• Docket Number: M-2017-041-C.

FR Notice: 83 FR 4927 (2/2/2018).

Petitioner: Rosebud Mining Company, 301 Market Street, Kittanning, Pennsylvania 16201.

Mines: Cresson Mine, MSHA I.D. No. 36-09308 and Madison Mine, MSHA I.D. No. 36-09127, located in Cambria County, Pennsylvania; Barret Mine, MSHA I.D. No. 36-09342, Knob Creek Mine, MSHA I.D. No. 36-09394, Heilwood Mine, MSHA I.D. No. 36-09407, Brush Valley Mine, MSHA I.D. No. 36-09437, Lowry Mine, MSHA I.D. No. 36-09287, Coral-Graceton Mine, MSHA I.D. No. 36-09595 and Crooked Creek Mine, MSHA I.D. No. 36-09972, located in Indiana County, Pennsylvania; Tusky Mine, MSHA I.D. No. 33-04509, located in Tuscarawas County, Ohio; Penfield Mine, MSHA I.D. No. 36-09355 and Harmony Mine, MSHA I.D. No. 36-09477, located in Clearfield County, Pennsylvania; Bergholz 7 Mine, MSHA I.D. No. 33-04565, located in Jefferson County, Ohio; Mine 78, MSHA ID No. 36-09371, located in Somerset County, Pennsylvania; Vail Mine, MSHA I.D. No. 33-04645, located in Harrison County, Ohio; Darmac Mine, MSHA I.D. No. 36-08135, Dutch Run Mine, MSHA I.D. No. 36-08701, Parkwood Mine, MSHA I.D. No. 36-08785, Logansport Mine, MSHA I.D. No. 36-08841 and Long Run Mine, MSHA I.D. No. 36-09468, located in Armstrong County, Pennsylvania; Kocjancic Mine, MSHA I.D. No. 36-09436, located in Jefferson County, Pennsylvania;

Regulation Affected: 30 CFR 75.500(d) (Permissible electric equipment).

• Docket Number: M-2017-042-C.

FR Notice: 83 FR 4927 (2/2/2018).

Petitioner: Cumberland Contura, LLC, Three Gateway Center, 401 Liberty Avenue, Suite 1500, Pittsburgh, Pennsylvania 15222-1000.

Mine: Cumberland Mine, MSHA I.D. No. 36-05018, located in Greene County, Pennsylvania.

Regulation Affected: 30 CFR 75.503 (Permissible electric face equipment; maintenance), 18.35(a)(5)(i) (Portable (trailing) cables and cords).

• Docket Number: M-2018-003-M.

FR Notice: 83 FR 15876 (4/12/2018).

Petitioner: Ciner Wyoming LLC, P.O. Box 513, 254 County Road 4-6, Green River, Wyoming 82935.

Mine: Big Island Mine, MSHA I.D. No. 48-00154, located in Sweetwater County, Wyoming.

Regulation Affected: 30 CFR 57.223 05 (Approved equipment (III mines)).

• Docket Number: M-2018-005-C.

FR Notice: 83 FR 15876 (4/12/2018).

Petitioner: Hamilton County Coal, LLC, 18033 County Road 500E, Dahlgren, Illinois 62828-4294.

Mine: Hamilton Mine No. 1, MSHA I.D. No. 11-03203, located in Hamilton County, Illinois.

Regulation Affected: 30 CFR 75.503 (Permissible electric face equipment; maintenance) and 30 CFR 18.35 (Portable (trailing) cables and cords).

• Docket Number: M-2018-019-C.

FR Notice: 83 FR 57508 (11/15/2018).

Petitioner: Knight Hawk Coal, LLC, 1710 State Route 154, Pinckneyville, Illinois 62274.

Mine: Prairie Eagle Underground Mine, MSHA I.D. No. 11-03147, located in Perry County, Illinois.

Regulation Affected: 30 CFR 75.500(d) (Permissible electric equipment).

• Docket Number: M-2018-020-C.

FR Notice: 83 FR 66758 (12/27/2018).

Petitioner: Signal Peak Energy, LLC, Three Gateway Center, Suite 1500, 401 Liberty Avenue, Pittsburgh, Pennsylvania 15222-1000.

Mine: Bull Mountains Mine No. 1, MSHA I.D. No. 24-01950, located in Musselshell County, Montana.

Regulation Affected: 30 CFR 75.500(d) (Permissible electric equipment).

• Docket Number: M-2018-021-C.

FR Notice: 83 FR 66758 (12/27/2018).

Petitioner: Signal Peak Energy, LLC, Three Gateway Center, Suite 1500, 401 Liberty Avenue, Pittsburgh, Pennsylvania 15222-1000.

Mine: Bull Mountains Mine No. 1, MSHA I.D. No. 24-01950, located in Musselshell County, Montana.

Regulation Affected: 30 CFR 75.507-1(a) (Electric equipment other than power-connection points; outby the last open crosscut; return air; permissibility requirements).

• Docket Number: M-2018-022-C.

FR Notice: 83 FR 66758 (12/27/2018).

Petitioner: Signal Peak Energy, LLC, Three Gateway Center, Suite 1500, 401 Liberty Avenue, Pittsburgh, Pennsylvania 15222-1000.

Mine: Bull Mountains Mine No. 1, MSHA I.D. No. 24-01950, located in Musselshell County, Montana.

Regulation Affected: 30 CFR 75.1002(a) (Installation of electric equipment and conductors; permissibility).

• Docket Number: M-2018-023-C.

FR Notice: 84 FR 5111 (2/20/2019).

Petitioner: Little Buck Coal Company, 21 Pine Lane, Pine Grove, Pennsylvania 17963.

Mine: Broad Mountain Slope, MSHA I.D. No. 36-10233, located in Schuylkill County, Pennsylvania.

Regulation Affected: 30 CFR 75.1200(d), (h) and (i) (Mine map).

• Docket Number: M-2018-024-C.

FR Notice: 84 FR 5111 (2/20/2019).

Petitioner: Little Buck Coal Company, 21 Pine Lane, Pine Grove, Pennsylvania 17963.

Mine: Broad Mountain Slope, MSHA I.D. No. 36-10233, located in Schuylkill County, Pennsylvania.

Regulation Affected: 30 CFR 75.1202-1(a) (Temporary notations, revisions, and supplements).

• Docket Number: M-2018-025-C.

FR Notice: 84 FR 5111 (2/20/2019).

Petitioner: Little Buck Coal Company, 21 Pine Lane, Pine Grove, Pennsylvania 17963.

Mine: Broad Mountain Slope, MSHA I.D. No. 36-10233, located in Schuylkill County, Pennsylvania.

Regulation Affected: 30 CFR 75.1400 (Hoisting equipment; general).

• Docket Number: M-2018-026-C.

FR Notice: 84 FR 5108 (2/20/2019).

Petitioner: Castle Valley Mining, LLC, P.O. Box 475, Huntington, Utah 84528.

Mine: Castle Valley Mine No. 3, MSHA I.D. No. 42-02263 and Castle Valley Mine No. 4, MSHA I.D. No. 42-02335, located in Emery County, Utah.

Regulation Affected: 30 CFR 75.507-1(a) (Electric equipment other than power-connection points; outby the last open crosscut; return air; permissibility requirements).

• Docket Number: M-2019-002-C.

FR Notice: 84 FR 28077 (6/17/2019).

Petitioner: Cumberland Contura, LLC, Three Gateway Center, Suite 1500, 401 Liberty Avenue, Pittsburgh, Pennsylvania 15222-1000.

Mine: Cumberland Mine, MSHA I.D. No. 36-05018, located in Greene County, Pennsylvania.

Regulation Affected: 30 CFR 75.500(d) (Permissible electric equipment).

• Docket Number: M-2019-003-C.

FR Notice: 84 FR 28077 (6/17/2019).

Petitioner: Cumberland Contura, LLC, Three Gateway Center, Suite 1500, 401 Liberty Avenue, Pittsburgh, Pennsylvania 15222-1000.

Mine: Cumberland Mine, MSHA I.D. No. 36-05018, located in Greene County, Pennsylvania.

Regulation Affected: 30 CFR 75.507-1(a) (Electric equipment other than power-connection points; out by the last open crosscut; return air; permissibility requirements).

• Docket Number: M-2019-004-C.

FR Notice: 84 FR 28077 (6/17/2019).

Petitioner: Cumberland Contura, LLC, Three Gateway Center, Suite 1500, 401 Liberty Avenue, Pittsburgh, Pennsylvania 15222-1000.

Mine: Cumberland Mine, MSHA I.D. No. 36-05018, located in Greene County, Pennsylvania.

Regulation Affected: 30 CFR 75.1002(a) (Installation of electric equipment and conductors; permissibility).

• Docket Number: M-2019-004-M.

FR Notice: 84 FR 38646 (8/7/2019).

Petitioner: Solvay Chemicals, Inc., P.O. Box 1167, 400 County Road 85, Green River, WY 82935.

Mine: Solvay Chemicals, Inc. Mine, MSHA I.D. 48-01295, located in Sweetwater County, WY.

Regulation Affected: 30 CFR 57.22305 (Approved equipment (III mines)).

• Docket Number: M-2019-005-C.

FR Notice: 84 FR 20430 (5/9/2019).

Petitioner: Castle Valley Mining LLC, P.O. Box 475, 5550 W Bear Canton Rd., Huntington, Utah 84528.

Mine: Castle Valley Mine No. 3, MSHA I.D. No. 42-02263, located in Emery County, Utah.

Regulation Affected: 30 CFR 75.500(d) (Permissible electric equipment).

• Docket Number: M-2019-006-C.

FR Notice: 84 FR 20430 (5/9/2019).

Petitioner: Castle Valley Mining LLC, P.O. Box 475, 5550 W Bear Canyon Rd., Huntington, Utah 84528.

Mine: Castle Valley Mine No. 3, MSHA I.D. No. 42-02263, located in Emery County, Utah.

Regulation Affected: 30 CFR 75.1002(a) (Installation of electric equipment and conductors; permissibility).

• Docket Number: M-2019-006-M.

FR Notice: 84 FR 49561 (9/20/2019).

Petitioner: Hecla Limited, Lucky Friday Unit, 397 Friday Ave., Mullan, ID 83846.

Mine: Lucky Friday, MSHA I.D. No. 10-00088, located in Shoshone County, Idaho.

Regulation Affected: 30 CFR 57.11052(d) (Refuge areas).

• Docket No. M-2019-007-C.

FR Notice: 84 FR 28083 (6/17/2019).

Petitioner: Rockwell Mining, LLC, Three Gateway Center, Suite 1500, 401 Liberty Avenue, Pittsburgh, Pennsylvania 15222-1000.

Mine: Eagle 3 Mine, MSHA I.D. No. 46-09427, located in Wyoming County, West Virginia.

Regulation Affected: 30 CFR 75.500(d) (Permissible electric equipment).

• Docket Number: M-2019-007-M.

FR Notice: 84 FR 64107 (11/20/2019).

Petitioner: Genesis Alkali, LLC, P.O. Box 872, 580 Westvaco Rd., Green River, WY 82935.

Mine: Genesis Alkali @WESTVACO, MSHA I.D. No. 48-00152, located in Sweetwater County, WY.

Regulation Affected: 30 CFR 57.22305 (Approved equipment (III mines)).

• Docket Number: M-2019-008-C.

FR Notice: 84 FR 28083 (6/17/2019).

Petitioner: Rockwell Mining, LLC, Three Gateway Center, Suite 1500, 401 Liberty Avenue, Pittsburgh, Pennsylvania 15222-1000.

Mine: Eagle 3 Mine, MSHA I.D. No. 46-09427, located in Wyoming County, West Virginia.

Regulation Affected: 30 CFR 75.507-1(a) (Electric equipment other than power-connection points; outby the last open crosscut; return air; permissibility requirements).

• Docket Number: M-2019-009-C.

FR Notice: 84 FR 28083 (6/17/2019).

Petitioner: Rockwell Mining, LLC, Three Gateway Center, Suite 1500, 401 Liberty Avenue, Pittsburgh, Pennsylvania 15222-1000.

Mine: Eagle 3 Mine, MSHA I.D. No. 46-09427, located in Wyoming County, West Virginia.

Regulation Affected: 30 CFR 75.1002(a) (Installation of electric equipment and conductors; permissibility).

• Docket Number: M-2019-010-C.

FR Notice: 84 FR 28083 (6/17/2019).

Petitioner: Rockwell Mining, LLC, Three Gateway Center, Suite 1500, 401 Liberty Avenue, Pittsburgh, Pennsylvania 15222-1000.

Mine: Flying Eagle Mine, MSHA I.D. No. 46-09471, located in Wyoming County, West Virginia.

Regulation Affected: 30 CFR 75.500(d) (Permissible electric equipment).

• Docket Number: M-2019-011-C.

FR Notice: 84 FR 28083 (6/17/2019).

Petitioner: Rockwell Mining, LLC, Three Gateway Center, Suite 1500, 401 Liberty Avenue, Pittsburgh, Pennsylvania 15222-1000.

Mine: Flying Eagle Mine, MSHA I.D. No. 46-09471, located in Wyoming County, West Virginia.

Regulation Affected: 30 CFR 75.507-1(a) (Electric equipment other than power-connection points; outby the last open crosscut; return air; permissibility requirements).

• Docket Number: M-2019-012-C.

FR Notice: 84 FR 28083 (6/17/2019).

Petitioner: Rockwell Mining, LLC, Three Gateway Center, Suite 1500, 401 Liberty Avenue, Pittsburgh, Pennsylvania 15222-1000.

Mine: Flying Eagle Mine, MSHA I.D. No. 46-09471, located in Wyoming County, West Virginia.

Regulation Affected: 30 CFR 75.1002(a) (Installation of electric equipment and conductors; permissibility).

• Docket Number: M-2019-018-C.

FR Notice: 84 FR 29881 (6/25/2019).

Petitioner: Hartshorne Mining Group, LLC, P.O. Box 449, Calhoun, Kentucky 42327.

Mine: Poplar Grove Mine, MSHA I.D. No. 15-19806, located in McLean County, Kentucky.

Regulation Affected: 30 CFR 75.500(d) (Permissible electric equipment).

• Docket Number: M-2019-019-C.

FR Notice: 84 FR 29881 (6/25/2019).

Petitioner: Hartshorne Mining, LLC, P.O. Box 449, Calhoun, Kentucky 42327.

Mine: Poplar Grove Mine, MSHA I.D. No. 15-19806, located in McLean County, Kentucky.

Regulation Affected: 30 CFR 75.507-1(a) (Electric equipment other than power-connection points; outby the last open crosscut; return air; permissibility requirements).

• Docket Number M-2019-021-C.

FR Notice: 84 FR 43820 8/22/2019.

Petitioner: Monongalia County Coal Company, P.O. Box 72, Brave, Pennsylvania 15316.

Mine: Monongalia County Mine, MSHA I.D. No. 46-01968, located in Monongalia County, West Virginia.

Regulation Affected: 30 CFR 75.503 (Permissible electric face equipment; maintenance) and 18.35(a)(5)(i) (Portable (trailing) cables and cords).

• Docket Number: M-2019-022-C.

FR Notice: 84 FR 43820 (8/22/2019).

Petitioner: Sunrise Coal, LLC, 12661 N Agricare Road, Oaktown, Indiana 47561.

Mine: Oaktown Fuels No. 1, MSHA I.D. No. 12-02394, located in Knox County, Indiana.

Regulation Affected: 30 CFR 75.500(d) (Permissible electric equipment).

• Docket Number: M-2019-023-C.

FR Notice: 84 FR 43820 (8/22/2019).

Petitioner: Sunrise Coal, LLC, 12661 N Agricare Road, Oaktown, Indiana 47561.

Mine: Oaktown Fuels No. 2, MSHA I.D. No. 12-02418, located in Knox County, Indiana.

Regulation Affected: 30 CFR 75.500(d) (Permissible electric equipment).

• Docket Number: M-2019-028-C.

FR Notice: 84 FR 38649 (8/7/2019).

Petitioner: Blue Diamond Coal Company, One Oxford Centre, 301 Grant Street, Suite 4300, Pittsburgh, Pennsylvania 15219.

Mine: No. 77 Mine, MSHA I.D. No. 15-09636, located in Perry County, Kentucky.

Regulation Affected: 30 CFR 75.1002(a) (Installation of electric equipment and conductors; permissibility).

• Docket Number: M-2019-029-C.

FR Notice: 84 FR 38649 (8/7/2019).

Petitioner: Blue Diamond Coal Company, One Oxford Centre, 301 Grant Street, Suite 4300, Pittsburgh, Pennsylvania 15219.

Mine: No. 77 Mine, MSHA I.D. No. 15-09636, located in Perry County, Kentucky.

Regulation Affected: 30 CFR 75.500(d) (Permissible electric equipment).

• Docket Number: M-2019-030-C.

FR Notice: 84 FR 38649 (8/7/2019).

Petitioner: Blue Diamond Coal Company, One Oxford Centre, 301 Grant Street, Suite 4300, Pittsburgh, Pennsylvania 15219.

Mine: No. 77 Mine, MSHA I.D. No. 15-09636, located in Perry County, Kentucky.

Regulation Affected: 30 CFR 75.507-1(a) (Electric equipment other than power-connection points; outby the last open crosscut; return air; permissibility requirements).

• Docket Number: M-2019-031-C.

FR Notice: 84 FR 38649 (8/7/2019).

Petitioner: Blue Diamond Coal Company, One Oxford Centre, 301 Grant Street, Suite 4300, Pittsburgh, Pennsylvania 15219.

Mine: Calvary No. 81 Mine, MSHA I.D. No. 15-12753, located in Leslie County, Kentucky.

Regulation Affected: 30 CFR 75.1002(a) (Installation of electric equipment and conductors; permissibility).

• Docket Number: M-2019-032-C.

FR Notice: 84 FR 38649 (8/7/2019).

Petitioner: Blue Diamond Coal Company, One Oxford Centre, 301 Grant Street, Suite 4300, Pittsburgh, Pennsylvania 15219.

Mine: Calvary No. 81 Mine, MSHA I.D. No. 15-12753, located in Leslie County, Kentucky.

Regulation Affected: 30 CFR 75.500(d) (Permissible electric equipment).

• Docket Number: M-2019-033-C.

FR Notice: 84 FR 38649 (8/7/2019).

Petitioner: Blue Diamond Coal Company, One Oxford Centre, 301 Grant Street, Suite 4300, Pittsburgh, Pennsylvania 15219.

Mine: Calvary No. 81 Mine, MSHA I.D. No. 15-12753, located in Leslie County, Kentucky.

Regulation Affected: 30 CFR 75.507-1(a) (Electric equipment other than power-connection points; outby the last open crosscut; return air; permissibility requirements).

• Docket Number: M-2019-034-C.

FR Notice: 84 FR 38649 (8/7/2019).

Petitioner: Blue Diamond Coal Company, One Oxford Centre, 301 Grant Street, Suite 4300, Pittsburgh, Pennsylvania 15219.

Mine: Orchard Branch Mine No. 89, MSHA I.D. No. 15-19405, located in Perry County, Kentucky.

Regulation Affected: 30 CFR 75.1002(a) (Installation of electric equipment and conductors; permissibility).

• Docket Number: M-2019-035-C.

FR Notice: 84 FR 38649 (8/7/2019).

Petitioner: Blue Diamond Coal Company, One Oxford Centre, 301 Grant Street, Suite 4300, Pittsburgh, Pennsylvania 15219.

Mine: Orchard Branch Mine No. 89, MSHA I.D. No. 15-19405, located in Perry County, Kentucky.

Regulation Affected: 30 CFR 75.500(d) (Permissible electric equipment).

• Docket Number: M-2019-036-C.

FR Notice: 84 FR 38649 (8/7/2019).

Petitioner: Blue Diamond Coal Company, One Oxford Centre, 301 Grant Street, Suite 4300, Pittsburgh, Pennsylvania 15219.

Mine: Orchard Branch Mine No. 89, MSHA I.D. No. 15-19405, located in Perry County, Kentucky.

Regulation Affected: 30 CFR 75.507-1(a) (Electric equipment other than power-connection points; outby the last open crosscut; return air; permissibility requirements).

• Docket Number: M-2019-037-C.

FR Notice: 84 FR 43165 (8/20/2019).

Petitioner: Hampden Coal, LLC, One Oxford Centre, 301 Grant Street, Suite 4300, Pittsburgh, Pennsylvania 15219.

Mine: Buffalo Mine, MSHA I.D. No. 46-09528, located in Logan County, West Virginia.

Regulation Affected: 30 CFR 75.1002(a) (Installation of electric equipment and conductors; permissibility).

• Docket Number: M-2019-038-C.

FR Notice: 84 FR 43165 (8/20/2019).

Petitioner: Hampden Coal, LLC, One Oxford Centre, 301 Grant Street, Suite 4300, Pittsburgh, Pennsylvania 15219.

Mine: Buffalo Mine, MSHA I.D. No. 46-09528, located in Logan County, West Virginia.

Regulation Affected: 30 CFR 75.500(d) (Permissible electric equipment).

• Docket Number: M-2019-039-C.

FR Notice: 84 FR 43165 (8/20/2019).

Petitioner: Hampden Coal, LLC, One Oxford Centre, 301 Grant Street, Suite 4300, Pittsburgh, Pennsylvania 15219.

Mine: Buffalo Mine, MSHA I.D. No. 46-09528, located in Logan County, West Virginia.

Regulation Affected: 30 CFR 75.507-1(a) (Electric equipment other than power-connection points; outby the last open crosscut; return air; permissibility requirements).

• Docket Number: M-2019-040-C.

FR Notice: 84 FR 43165 (8/20/2019).

Petitioner: Hampden Coal, LLC, One Oxford Centre, 301 Grant Street, Suite 4300, Pittsburgh, Pennsylvania 15219.

Mine: Washington Mine, MSHA I.D. No. 46-09294, located in Logan County, West Virginia.

Regulation Affected: 30 CFR 75.1002(a) (Installation of electric equipment and conductors; permissibility).

• Docket Number: M-2019-041-C.

FR Notice: 84 FR 43165 (8/20/2019).

Petitioner: Hampden Coal, LLC, One Oxford Centre, 301 Grant Street, Suite 4300, Pittsburgh, Pennsylvania 15219.

Mine: Washington Mine, MSHA I.D. No. 46-09294, located in Logan County, West Virginia.

Regulation Affected: 30 CFR 75.500(d) (Permissible electric equipment).

• Docket Number: M-2019-042-C.

FR Notice: 84 FR 43165 (8/20/2019).

Petitioner: Hampden Coal, LLC, One Oxford Centre, 301 Grant Street, Suite 4300, Pittsburgh, Pennsylvania 15219.

Mine: Washington Mine, MSHA I.D. No. 46-09294, located in Logan County, West Virginia.

Regulation Affected: 30 CFR 75.507-1(a) (Electric equipment other than power-connection points; outby the last open crosscut; return air; permissibility requirements).

• Docket Number: M-2019-043-C.

FR Notice: 84 FR 43165 (8/20/2019).

Petitioner: Hampden Coal, LLC, One Oxford Centre, 301 Grant Street, Suite 4300, Pittsburgh, Pennsylvania 15219.

Mine: Muddy Bridge Mine, MSHA I.D. No. 46-09514, located in Logan County, West Virginia.

Regulation Affected: 30 CFR 75.1002(a) (Installation of electric equipment and conductors; permissibility).

• Docket Number: M-2019-044-C.

FR Notice: 84 FR 43165 (8/20/2019).

Petitioner: Hampden Coal, LLC, One Oxford Centre, 301 Grant Street, Suite 4300, Pittsburgh, Pennsylvania 15219.

Mine: Muddy Bridge Mine, MSHA I.D. No. 46-09514, located in Logan County, West Virginia.

Regulation Affected: 30 CFR 75.500(d) (Permissible electric equipment).

• Docket Number: M-2019-045-C.

FR Notice: 84 FR 43165 (8/20/2019).

Petitioner: Hampden Coal, LLC, One Oxford Centre, 301 Grant Street, Suite 4300, Pittsburgh, Pennsylvania 15219.

Mine: Muddy Bridge Mine, MSHA I.D. No. 46-09514, located in Logan County, West Virginia.

Regulation Affected: 30 CFR 75.507-1(a) (Electric equipment other than power-connection points; outby the last open crosscut; return air; permissibility requirements).

• Docket Number: M-2019-046-C.

FR Notice: 84 FR 44925 (8/27/2019).

Petitioner: Jet Coal Co., Inc., One Oxford Centre, 301 Grant Street, Suite 4300, Pittsburgh, Pennsylvania 15219.

Mine: No. 8 Mine, MSHA I.D. No. 46-09018, located in Mingo County, West Virginia.

Regulation Affected: 30 CFR 75.1002(a) (Installation of electric equipment and conductors; permissibility).

• Docket Number: M-2019-047-C.

FR Notice: 84 FR 44925 (8/27/2019).

Petitioner: Jet Coal Co., Inc., One Oxford Centre, 301 Grant Street, Suite 4300, Pittsburgh, Pennsylvania 15219.

Mine: No. 8 Mine, MSHA I.D. No. 46-09018, located in Mingo County, West Virginia.

Regulation Affected: 30 CFR 75.500(d) (Permissible electric equipment).

• Docket Number: M-2019-048-C.

FR Notice: 84 FR 44925 (8/27/2019).

Petitioner: Jet Coal Co., Inc., One Oxford Centre, 301 Grant Street, Suite 4300, Pittsburgh, Pennsylvania 15219.

Mine: No. 8 Mine, MSHA I.D. No. 46-09018, located in Mingo County, West Virginia.

Regulation Affected: 30 CFR 75.507-1(a) (Electric equipment other than power-connection points; outby the last open crosscut; return air; permissibility requirements).

• Docket Number: M-2019-049-C.

FR Notice: 84 FR 48178 (9/12/2019).

Petitioner: Rock N Roll Coal Company, Inc., 4641 Greenbrier Mountain Road, Panther, WV 24872.

Mine: Mine No. 7, MSHA I.D. No. 46-09093, located in McDowell County, West Virginia.

Regulation Affected: 30 CFR 75.1101-1(b) (Deluge-type water spray systems).

• Docket Number: M-2019-050-C.

FR Notice: 84 FR 55175 (10/15/2019).

Petitioner: Peabody Gateway North Mining LLC, Six PPG Place, Suite 830, Pittsburgh, PA 15222.

Mine: Gateway North Mine, MSHA I.D. No. 11-03235, located in Randolph County, Illinois.

Regulation Affected: 30 CFR 75.500(d) (Permissible electric equipment).

• Docket Number: M-2019-051-C.

FR Notice: 84 FR 55175 (10/15/2019).

Petitioner: Peabody Gateway North Mining LLC, Six PPG Place, Suite 830, Pittsburgh, PA 15222.

Mine: Gateway North Mine, MSHA I.D. No. 11-03235, located in Randolph County, Illinois.

Regulation Affected: 30 CFR 75.507-1(a) (Electric equipment other than power-connection points; outby the last open crosscut; return air; permissibility requirements).

• Docket Number: M-2019-052-C.

FR Notice: 84 FR 55175 (10/15/2019).

Petitioner: Peabody Gateway North Mining LLC, Six PPG Place, Suite 830, Pittsburgh, PA 15222.

Mine: Gateway North Mine, MSHA I.D. No. 11-03235, located in Randolph County, Illinois.

Regulation Affected: 30 CFR 75.1002(a) (Installation of electric equipment and conductors; permissibility).

• Docket Number: M-2019-054-C.

FR Notice: 84 FR 64107 (11/20/2019).

Petitioner: Castle Valley Mining LLC, P.O. Box 475, Huntington, UT 84528.

Mines: Castle Valley Mine #3, MSHA I.D. No. 42-02263 and Castle Valley Mine #4, MSHA I.D. No. 42-02335, located in Emery County, UT.

Regulation Affected: 75.1909(b)(6) (Nonpermissible diesel-powered equipment; design and performance requirements).

• Docket Number M-2019-055-C.

FR Notice: 84 FR 64107 11/20/2019.

Petitioner: INMET Mining, LLC, 144 E Market Place Blvd., Knoxville, TN 37922.

Mine: D-31 Cut Through, MSHA I.D. No. 44-06782, located in Lee County, Virginia.

Regulation Affected: 30 CFR 75.1108(c) (Approved conveyor belts).

• Docket Number: M-2019-056-C.

FR Notice: 84 FR 64107 11/20/2019.

Petitioner: Marfork Coal Company, LLC, P.O. Box 457, Whitesville, WV 25209.

Mine: Markfork Processing, MSHA I.D. No. 46-08374, located in Raleigh County, West Virginia.

Regulation Affected: 30 CFR 77.214(a) (Refuse piles; general).

• Docket Number: M-2019-061-C.

FR Notice: 85 FR 4709 1/27/2020.

Petitioner: Peabody Gateway North Mining, LLC, 7100 Eagle Crest Boulevard, Suite 100, Evansville, IN 47715-8152.

Mine: Gateway North Mine, MSHA I.D. No. 11-03235, located in Randolph County, IL.

Regulation Affected: 30 CFR 75.500(d) (Permissible electric equipment).

• Docket Number: M-2019-062-C.

FR Notice: 85 FR 4709 1/27/2020.

Petitioner: Peabody Gateway North Mining, LLC, 7100 Eagle Crest Boulevard, Suite 100, Evansville, IN 47715-8152.

Mine: Gateway North Mine, MSHA I.D. No. 11-03235, located in Randolph County, IL.

Regulation Affected: 30 CFR 75.507-1(a) (Electric equipment other than power-connection points; outby the last open crosscut; return air; permissibility requirements).

• Docket Number: M-2019-063-C.

FR Notice: 85 FR 4709 1/27/2020.

Petitioner: Peabody Gateway North Mining, LLC, 7100 Eagle Crest Boulevard, Suite 100, Evansville, IN 47715-8152.

Mine: Gateway North Mine, MSHA I.D. No. 11-03235, located in Randolph County, IL.

Regulation Affected: 30 CFR 75.1002(a) (Installation of electric equipment and conductors; permissibility).

• Docket Number: M-2020-002-C.

FR Notice: 85 FR 19162 (4/6/2020).

Petitioner: Ramaco Resources, LLC, P.O. Box 219, Verner, WV 25650.

Mines: Eagle Seam Deep Mine, MSHA I.D. No. 46-09495, Stonecoal Branch Mine No. 2, MSHA I.D. No. 46-08663, No. 2 Gas, MSHA I.D. No. 46-09541, located in Logan County, West Virginia.

Regulation Affected: 30 CFR 75.500(d) (Permissible electric equipment).

• Docket Number: M-2020-002-M.

FR Notice: 85 FR 47417 (8/5/2020).

Petitioner: U.S. Silica Company, 5263 Edmund Highway, West Columbia, South Carolina 29170.

Mine: Columbia Plant, MSHA I.D. No. 38-00138, located in Lexington County, South Carolina.

Regulation Affected: 30 CFR 56.13020 (Use of compressed air).

• Docket Number: M-2020-003-C.

FR Notice: 85 FR 19162 (4/6/2020).

Petitioner: Ramaco Resources, LLC, P.O. Box 219, Verner, WV 25650.

Mines: Eagle Seam Deep Mine, MSHA I.D. No. 46-09495, Stonecoal Branch Mine No. 2, MSHA I.D. No. 46-08663, No. 2 Gas, MSHA I.D. No. 46-09541, located in Logan County, West Virginia.

Regulation Affected: 30 CFR 75.507-1(a) (Electric equipment other than power-connection points; outby the last open crosscut; return air; permissibility requirements).

• Docket Number: M-2020-004-C.

FR Notice: 85 FR 19162 (4/6/2020).

Petitioner: Ramaco Resources, LLC, P.O. Box 219, Verner, WV 25650.

Mines: Eagle Seam Deep Mine, MSHA I.D. No. 46-09495, Stonecoal Branch Mine No. 2, MSHA I.D. No. 46-08663, No. 2 Gas, MSHA I.D. No. 46-09541, located in Logan County, West Virginia.

Regulation Affected: 30 CFR 75.1002(a) (Installation of electric equipment and conductors; permissibility).

• Docket Number: M-2020-006-C.

FR Notice: 85 FR 20528 (4/13/2020).

Petitioner: Nelson Brothers, LLC, P.O. Box 8276, South Charleston, WV 25303.

Mines: Workman Creek Surface Mine, MSHA I.D. No. 46-09475, located in Raleigh County, West Virginia; No. 1 Surface Mine, MSHA I.D. No. 46-06870, located in Nicholas County, West Virginia; Twilight Mtr. Surface Mine, MSHA I.D. No. 46-08645, located in Boone County, West Virginia.

Regulation Affected: 30 CFR 77.1302(k) (Vehicles used to transport explosives).

• Docket Number: M-2020-007-C.

FR Notice: 85 FR 36422 (6/16/2020).

Petitioner: Rockwell Mining, LLC, 300 Kanawha Boulevard, East (ZIP 25301), P.O. Box 273, Charleston, West Virginia 25321-0273.

Mine: Matewan Tunnel, MSHA I.D. No. 46-08610, located in Boone County, West Virginia.

Regulation Affected: 30 CFR 75.1108(c) (Approved conveyor belts).

• Docket Number: M-2020-011-C.

FR Notice: 85 FR 47404 (8/5/2020).

Petitioner: Jarisa, Inc., 935 State Hwy 317, Neon, KY 41840.

Mine: E4-1 Mine, MSHA I.D. No. 15-18565, located in Perry County, Kentucky.

Regulation Affected: 30 CFR 75.500(d) (Permissible electric equipment).

• Docket Number: M-2020-012-C.

FR Notice: 85 FR 47404 (8/5/2020).

Petitioner: Jarisa, Inc., 935 State Hwy. 317, Neon, KY 41840.

Mine: E4-1 Mine, MSHA I.D. No. 15-18565, located in Perry County, Kentucky.

Regulation Affected: 30 CFR 75.507-1(a) (Electric equipment other than power-connection points; outby the last open crosscut; return air; permissibility requirements).

• Docket Number: M-2020-013-C.

FR Notice: 85 FR 47404 (8/5/2020).

Petitioner: Jarisa, Inc., 935 State Hwy. 317, Neon, KY 41840.

Mine: E4-1 Mine, MSHA I.D. No. 15-18565, located in Perry County, Kentucky.

Regulation Affected: 30 CFR 75.1002(a) (Installation of electric equipment and conductors; permissibility).

Roslyn B. Fontaine,
Deputy Director, Office of Standards, Regulations, and Variances.

[FR Doc. 2020-29191 Filed 1-4-21; 8:45 am]

BILLING CODE 4520-43-P